DEPARTMENT OF AGRICULTURE

Forest Service

Tahoe National Forest, CA, Tahoe National Forest Motorized Travel Management EIS

AGENCY: Forest Service, USDA.

ACTION: Notice of intent to prepare an environmental impact statement.

SUMMARY: The Tahoe National Forest (TNF) will prepare an Environmental Impact Statement to disclose the impacts associated with the following proposed actions: (1) The addition of approximately 50 miles of existing unauthorized routes to the current system of National Forest System (NFS) trails currently open to the public for wheeled motorized vehicle use. (2) The addition of one 60 acre area, where use of wheeled motorized vehicles by the public would be allowed anywhere within that area. (3) Allowing non-street legal vehicle use on approximately 3 miles of an existing NFS road where such use is currently prohibited, (4) The prohibition of wheeled motorized vehicle travel off designated NFS roads, NFS trails and areas by the public except as allowed by permit or other authorization.

DATES: The Notice of Intent is expected to be published in Federal Register on April 13, 2007. The comment period on the proposed action will extend 30 days from the date the Notice of Intent is published in the Federal Register. Completion of the Draft Environmental Impact Statement (DEIS) is expected in September 2007 and the Final Environmental Impact Statement (FEIS) is expected in January 2008.

ADDRESSES: Send written comments to: Travel Management Team, Tahoe National Forest, 631 Coyote Street, Nevada City, California, 95959.

FOR FURTHER INFORMATION CONTACT: David Arrasmith, Tahoe National Forest, 631 Coyote Street, Nevada City, California, 95959. Phone: (530) 478-6143. E-mail: darrasmith@fs.fed.us.

SUPPLEMENTARY INFORMATION:

Background

Over the past few decades, the availability and capability of motorized vehicles, particularly off-highway vehicles (OHVs) and sport utility vehicles (SUVs) has increased tremendously. Nationally, the number of OHV users has climbed sevenfold in the past 30 years, from approximately 5 million in 1972 to 36 million in 2000. California is experiencing the highest level of OHV use of any state in the nation. There were 786,914 ATVs and OHV motorcycles registered in 2004, up 330% since 1980. Annual sales of ATVs and OHV motorcycles in California were the highest in the U.S. for the last 5 years. Four-wheel drive vehicle sales in California also increased by 1500% to 3,046,866 from 1989 to 2002.

Unmanaged OHV use has resulted in unplanned roads and trails, erosion, watershed and habitat degradation, and impacts to cultural resource sites. Compaction and erosion are the primary effects of OHV use on soils. Riparian areas and aquatic dependent species are particularly vulnerable to OHV use. Unmanaged recreation, including impacts from OHVs, is one of ``Four Key Threats Facing the Nation's Forests and Grasslands.'' (USDA Forest Service, June 2004).

On August 11, 2003, the Pacific Southwest Region of the Forest Service entered into a Memorandum of Intent (MOI) with the California Off-Highway Motor Vehicle Recreation Commission, and the Off-Highway Motor Vehicle Recreation Division of the California Department of Parks and Recreation. That MOI set in motion a region-wide effort to “Designate OHV roads, trails, and any specifically defined open areas for motorized wheeled vehicles on maps of the 19 National Forests in California by 2007.”

On November 9, 2005, the Forest Service published final travel management regulations in the Federal Register (FR Vol. 70, No. 216-Nov. 9, 2005, pp. 68264-68291). This final Travel Management Rule requires designation of those roads, trails, and areas that are open to motor vehicle use on National Forests. Designations will be made by class of vehicle and, if appropriate, by time of year. The final rule prohibits the use of motor vehicles off the designated system as well as use of motor vehicles on routes and in areas that are not consistent with the designations.

On some NFS lands, long managed as open to cross-country motor vehicle travel, repeated use has resulted in unplanned, unauthorized, roads and trails. These routes generally developed without environmental analysis or public involvement, and do not have the same status as NFS roads and NFS trails included in the forest transportation system. Nevertheless, some unauthorized routes are well-sited, provide excellent opportunities for outdoor recreation by motorized and non-motorized users, and would enhance the National Forest system of designated roads, trails and areas. Other unauthorized routes are poorly located and cause unacceptable impacts. Only NFS roads and NFS trails can be designated for wheeled motorized vehicle use. In order for an unauthorized route to be designated, it must first be added to the forest transportation system.

In 2005, the TNF completed an inventory of unauthorized routes on NFS lands as described in the MOI and identified approximately 2,500 miles of unauthorized routes. The TNF then used an interdisciplinary process to conduct travel analysis that included working with the public to identify proposals for changes to the existing TNF transportation system. Roads, trails and areas that are currently part of the TNF transportation system and open to wheeled motorized vehicle travel will remain designated for such use except as described below under the Proposed Action. This proposal identifies needed changes (vehicle restrictions, additional motorized trails and areas, etc.) to the Tahoe National Forest NFS roads, NFS trails and areas on NFS lands in accordance with the Travel Management Rule (36 CFR part 212).

Purpose and Need for Action

The following needs have been identified for this proposal:

1. There is a need for regulation of unmanaged wheel motorized vehicle travel by the public. The Travel Management Rule, 36 CFR part 212, provides policy for administering the Forest transportation system including the designation of NFS roads, trails and areas, and the prohibition of cross-country travel.

2. There is a need for the prevention of resource damage caused by unmanaged wheeled motorized travel by the public. The Tahoe National Forest Land and Resource Management Plan (Amended 2005) contains a Forestwide Standard and Guideline which states in part “Prohibit wheeled vehicle travel off of designated routes, trails, and limited off highway vehicle (OHV) use areas.” The proliferation of unplanned, non-sustainable roads, trails and areas degrades the environment.

3. There is a need for limited changes to the TNF transportation system to:

3.1 Provide wheeled motorized access to dispersed recreation opportunities (camping, hunting, fishing, hiking, horseback riding, etc.).

3.2 Provide a diversity of wheeled motorized recreation opportunities (4X4 Vehicles, motorcycles, ATVs, passenger vehicles, etc.).

3.3 Provide the minimum transportation system needed for safe and efficient travel by the public and for administration, utilization and protection of NFS lands 36 CFR 212.5(b).

It is Forest Service policy to provide a diversity of road and trail opportunities for experiencing a variety of environments and modes of travel consistent with the National Forest recreation role and land capability (FSM 2353.03(2)).

In meeting these needs, any changes to the NFS roads, motorized trails and areas should also achieve the following purposes:

A. Avoid impacts to cultural resources.

B. provide for public safety.

C. Provide for a diversity of recreational opportunities.

D. Assure adequate access to public and private lands.

E. Provide for adequate maintenance and administration of designations based on availability of resources and funding to do so.

F. Minimize damage to soil, vegetation and other forest resources.

G. Avoid harassment of wildlife and significant disruption of wildlife habitat.

H. Minimize conflicts between wheeled motor vehicles and existing or proposed recreational uses of NFS lands.

I. Minimize conflicts among different classes of wheeled motor vehicle uses of NFS lands or neighboring federal lands.

J. Assure compatibility of wheeled motor vehicle use with existing conditions in populated areas, taking into account sound, emissions, etc.

K. Have valid existing rights of use and access (rights-of-way).

Proposed Action

1. Motorized Trail Additions—The TNF currently manages and maintains approximately 2,640 miles of NFS road and 760 miles of NFS motorized trails. Based on the stated purpose and need for action, and as a result of the recent travel analysis process, the TNF proposes to add approximately 50 miles to its NFS motorized trails, bringing the total National Forest system of motorized trails to approximately 810 miles. The additional motorized trails are listed below along with the permitted vehicle class and season of use.

Motorized Trails Additions
Route ID | Length (miles) | Permitted vehicle class | Season of use
YRN-11 | 0.24 | ALL | Yearlong.
YRN-5abc | 0.30 | ALL | Yearlong.
YRN-1 | 1.22 | ALL | Yearlong.
YRN-2 | 1.40 | ALL | Yearlong.
YRN-4 | 0.60 | ALL | Yearlong.
YRN-6 | 0.79 | ALL | Yearlong.
SV-P4 | 1.12 | ALL | Yearlong.
YRN-M3b | 2.65 | Motorcyle only | Yearlong.
SV-P12 | 0.59 | ALL | Yearlong.
SV-P13 | 0.90 | ALL | Yearlong.
SV-P14 | 0.37 | ALL | Yearlong.
SV-P14a | 0.27 | ALL | Yearlong.
SV-P15 | 1.16 | ALL | Yearlong.
SV-P17 | 0.57 | ALL | May 2 to October 31.
SV-P5 | 0.41 | ALL | Yearlong.
SV-P7e | 0.82 | ALL | Yearlong.
SV-P7w | 0.53 | ALL | Yearlong.
SV-P19 | 0.17 | ALL | Yearlong.
SV-P8 | 0.31 | ALL | Yearlong.
YRM-M4 | 0.26 | Motorcycle only | Yearlong.
SV-P18 | 0.59 | ALL | Yearlong.
TKN-J10 | 0.37 | ALL | Yearlong.
TKN-J2 | 0.67 | ALL | Yearlong.
TKN-J3 | 0.38 | ALL | Yearlong.
TKN-J9 | 1.79 | ALL | Yearlong.
TKN-J12 | 0.69 | ALL | Yearlong.
TKN-J13 | 1.68 | ALL | Yearlong.
TKN-M3 | 2.83 | Motorcycle only | Yearlong.
TKN-M1 | 3.50 | Motorcycle only | Yearlong.
TKN-J4 | 3.36 | ALL | Yearlong.
TKN-J5 | 1.37 | ALL | Yearlong.
TKN-J6 | 0.17 | ALL | Yearlong.
YRS-AF | 0.33 | ALL | Yearlong.
YRS-F1 | 1.07 | ALL | Yearlong.
YRS-G3 | 0.38 | ALL | Yearlong.
TKN-J14 | 0.72 | ALL | Yearlong.
YRS-SF5 | 3.94 | Motorcycle only | Yearlong.
YRS-SF6 | 2.37 | Motorcycle only | Yearlong.
YRS-B12 | 0.12 | Motorcycle only | May 2 to October 31.
YRS-B7 | 0.24 | Motorcycle only | May 2 to October 31.
TKS-M9 | 2.97 | Motorcycle only | Yearlong.
ARM-13 | 0.78 | ALL | May 2 to October 31.
ARM-2 | 0.51 | Vehicles 50” or less in width | May 2 to October 31.
ARM-5 | 0.79 | ALL | May 2 to October 31.
ARM-7 | 0.70 | ALL | May 2 to October 31.
ARM-3 | 2.31 | Vehicles 50” or less in width | Yearlong.
ARM-3a | 1.49 | Vehicles 50” or less in width | Yearlong.
TKS-11 | 0.91 | ALL | Yearlong.
Total | 51.71 |  |

2. Motorized Open Area Addition—The Tahoe National Forest currently has four areas designated open to wheeled motorized vehicle use. The Tahoe National Forest proposes to designate one additional area which would create a total of five areas open to wheeled motor vehicle use forest wide. The additional motorized area is listed below along with the permitted vehicle class and season of use.

Motorized Open Area Addition
Area name | Acreage | Permitted vehicle class | Season of use
Eureka Diggings | 60 | ALL | Year Round.

3. Allowing non-street legal vehicle access to approximately 3 miles of an existing NFS road where such use is currently prohibited—TNF maintenance level 3, 4, and 5 roads are subject to the Federal Highway Safety Act. As a result, these roads are designated as open to highway legal vehicles only. Maintenance level 2 roads are currently designated as open to all vehicle classes. The TNF proposed the following change in vehicle class:

Vehicle Class Addition
Road | Length | Current permitted vehicle class | Proposed permitted vehicle class
843-37 French Lake Road | 3.4 | Highway Legal Only | All.

4. Probition of wheeled motorized vehicle travel off the designated NFS roads, NFS trails and areas by the public except as allowed by permit or other authorization.

Maps and tables describing in detail both the TNF transportation system and the proposed action can found at http://www.fs.fed.us/r5/tahoe/. In addition, maps will be available for viewing at:

1. Supervisor's Office, 631 Coyote Street, Nevada City, CA 95959.

2. American River Ranger District, 22830 Foresthill Road, Foresthill, CA 95631.

3. Yuba River Ranger District, 15924 Highway 49, Camptonville, CA 95922.

4. Sierraville Ranger District, 317 South Lincoln Street, Sierraville, CA 96126.

5. Truckee Ranger District, 9646 Donner Pass Road, Truckee, CA 96161.

Responsible Official

Steven T. Eubanks, Forest Supervisor, Tahoe National Forest, 631 Coyote Street, Nevada City, California 95959.

Nature of Decision To Be Made

The responsible official will decide whether to adopt and implement the proposed action, an alternative to the proposed action, or take no action to make change to the existing Tahoe National Forest Transportation System and prohibit cross country wheeled motorized vehicle travel by the public off the designated system.

Scoping Process

Public participation will be especially important at several points during the analysis. The Forest Service will be seeking information, comments, and assistance from the Federal, State, and local agencies and other individuals or organizations who may be interested in or affected by the proposed action.

The Notice of Intent is expected to be published in the Federal Register on April 13, 2007. The comment period on the proposed action will extend 30 days from the date the Notice of Intent is published in the Federal Register.

The draft environmental impact statement is expected to be filed with the Environmental Protection Agency (EPA) and to be available for public review by September 2007. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Tahoe National Forest participate at that time.

The final EIS is scheduled to be completed in January 2008. In the final EIS, the Forest Service is required to respond to substantive comments received during the comment period that pertain to the environmental consequences discussed in the draft EIS and applicable laws, regulations, and policies considered in making the decision. Substantive comments are defined as “comments within the scope of the proposed action, specific to the proposed action, and have a direct relationship to the proposed action, and include supporting reasons for the responsible official to consider” (36 CFR 215.2). Submission of substantive comments is a prerequisite for eligibility to appeal under the 36 CFR part 215 regulations.

Comments Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

;

Dated: April 5, 2007.
Steven T. Eubanks,
Forest Supervisor.

[FR Doc. 07-1779 Filed 4-10-07; 8:45 am]

BILLING CODE 3410-11-M